DEPARTMENT OF VETERANS AFFAIRS

Veterans’ Family, Caregiver and Survivor Advisory Committee, Notice of Meeting

The Department of Veterans Affairs (VA) gives notice under the Federal Advisory Committee Act (FACA), 5 U.S.C. Ch. 10, that the Veterans’ Family, Caregiver and Survivor Advisory Committee will meet virtually on November 30 and December 1, 2023. The meeting sessions will begin and end as follows:

Date(s) | Time(s)
November 30, 2023 | 12:00 p.m. to 3:00 p.m. Eastern Standard Time (EST).
December 1, 2023 | 12:00 p.m. to 3:00 p.m. EST.

The meeting is open to the public and will be conducted via the WebEx conference platform.

The purpose of the Committee is to provide advice to the Secretary of Veterans Affairs (SECVA) with respect to the administration of benefits by the Department of Veterans Affairs (VA) for services to Veterans’ families, caregivers and survivors.

On Thursday, November 30 and Friday, December 1, 2023, the agenda will include opening remarks from the Executive Director, Caregiver Support Program, Veterans Health Administration (VHA) and the Committee Chair. There will be briefings by the VA Office of Geriatrics and Extended Care, Care Management and Social Work Services, and Readjustment Counseling Service.

Time will be allocated for receiving public comments on December 1, 2023, 1:30 p.m. to 2:30 p.m. EST. Individuals wishing to make public comments should contact Dr. Betty Moseley Brown, Designated Federal Officer at (210) 392-2505 or VHA12CSPFAC@va.gov and are requested to submit a 1 to 2-page summary of their comments for inclusion in the official meeting record. In the interest of time, each speaker will be held to a 5-minute time limit. The Committee will accept written comments from interested parties on relevant issues until Monday, November 27, 2023, at 5:00 p.m. EST. Each public speaker will receive a confirmed time for speaking via email from the Designated Federal Officer.

All attending should register at the following link: https://veteransaffairs.webex.com/webappng/sites/veteransaffairs/webinar/webinarSeries/register/aaa9fdda9fdc463e8acbea9444a71ede. Anyone seeking additional information should contact Dr. Betty Moseley Brown, at (210) 392-2505 or Betty.MoseleyBrown@va.gov.

Dated: November 13, 2023.
Jelessa M. Burney,
Federal Advisory Committee Management Officer.

[FR Doc. 2023-25335 Filed 11-15-23; 8:45 am]

BILLING CODE 8320-01-P